ENVIRONMENTAL PROTECTION AGENCY

[FRL-9263-1]

Meeting of the Local Government Advisory Committee

AGENCY: Environmental Protection Agency (EPA).

ACTION: Notice.

SUMMARY: The Local Government Advisory Committee's Gulf Coast Restoration Workgroup will meet on Thursday, February 17, 2011, in New Orleans, Louisiana, at the Sheraton Hotel, 500 Canal Street. The focus of the Gulf Coast Restoration Workgroup meeting is to engage local government officials in the Gulf Coast Ecosystem restoration efforts, and provide an opportunity for input to the Committee as it develops recommendations for the EPA Administrator in her role as Chair of the Gulf Coast Ecosystem Restoration Task Force. This is an open meeting and all interested persons are invited to attend. The Committee will hear comments from the public between 10:45 a.m.-11:55 a.m. on Thursday, February 17, 2011. Individuals or organizations wishing to address the Workgroup meeting will be allowed a maximum of five minutes to present their point of view. Also, written comments should be submitted electronically to cook.rebecca@epa.gov. Please contact the Designated Federal Officer (DFO) at the number listed below to schedule agenda time. Time will be allotted on a first come first served basis, and the total period for comments may be extended if the number of requests for appearances requires it.

ADDRESSES: The LGAC Gulf Coast Restoration Workgroup meeting will be held at the Sheraton Hotel, located at 500 Canal Street, New Orleans, Louisiana. The Workgroup's meeting summary will be available after the meeting online at http://www.epa.gov/ocir/scas and can be obtained by written request to the DFO.

FOR FURTHER INFORMATION CONTACT: Rebecca Cook, Gulf Coast Restoration Workgroup at (202) 564-5340 or Frances Eargle, the Designated Federal Officer for the Local Government Advisory Committee (LGAC) at (202) 564-3115 or e-mail at eargle.frances@epa.gov.

Information on Services for Those With Disabilities: For information on access or services for individuals with disabilities, please contact Frances Eargle at (202) 564-3115 or eargle.frances@epa.gov. To request accommodation of a disability, please request it seven days prior to the meeting, to give EPA as much time as possible to process your request.

Dated: February 1, 2011.
Jack Bowles,
Acting Designated Federal Officer, Local Government Advisory Committee.

[FR Doc. 2011-2784 Filed 2-7-11; 8:45 am]

BILLING CODE 6560-50-P